ENVIRONMENTAL PROTECTION AGENCY

[OECA-2007-0466; FRL-8327-5]

Agency Information Collection Activities: Proposed Collection; Comment Request; State Review Framework; EPA ICR Number 2185.01

AGENCY: Environmental Protection Agency (EPA).

ACTION: Notice.

SUMMARY: In compliance with the Paperwork Reduction Act (44 U.S.C. 3501 et seq.), this document announces that EPA is planning to submit a proposed amendment to an existing Information Collection Request (ICR), number 2185.01, which is set to expire on November 30, 2008, to the Office of Management and Budget (OMB). This is a request for a new collection. Before submitting the ICR to OMB for review and approval, EPA is soliciting comments on specific aspects of the proposed information collection as described below.

DATES: Comments must be submitted on or before August 13, 2007.

ADDRESSES: Submit your comments, identified by Docket ID No. EPA-OECA-2007-0466 by one of the following methods:

• www.regulations.gov: Follow the on-line instructions for submitting comments.

• E-mail: oei.docket@epa.gov.

• Fax: 202-566-9744.

• Mail: EPA Docket Center, Environmental Protection Agency, OECA Docket, mail code 2201T, 1200 Pennsylvania Ave., NW., Washington, DC 20460.

• Hand Delivery: The EPA Docket Center in the District of Columbia is located at EPA West, Room 3334, 1301 Constitution Avenue, NW., Washington, DC 20460. Such deliveries are only accepted during the Docket's normal hours of operation, and special arrangements should be made for deliveries of boxed information. The EPA Docket Center Public Reading Room is open from 8:30 a.m. to 4:30 p.m., Monday through Friday, excluding legal holidays. The telephone number for the Reading Room is (202) 566-1752, and the telephone number for the OECA Docket is (202) 566-1514.

Instructions: Direct your comments to Docket ID No. OECA-2007-0466. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail.

FOR FURTHER INFORMATION CONTACT:

Arthur Horowitz at (202) 564-2612.

SUPPLEMENTARY INFORMATION: The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Affected entities: EPA Regional Offices, State governments, and local governments

Title: State Review Framework

Abstract: The State Review Framework (“Framework”) is an oversight tool designed to assess state performance in enforcement and compliance assurance. The Framework's goal is to evaluate state performance by examining existing data to provide a consistent level of oversight and develop a uniform mechanism by which EPA Regions, working collaboratively with their states, can ensure that state environmental agencies are consistently implementing the national compliance and enforcement program in order to meet agreed-upon goals. Furthermore, the Framework is designed to foster dialogue on enforcement and compliance performance between the states that will enhance relationships and increase feedback, which will in turn lead to consistent program management and improved environmental results. The Framework is described in the April 26, 2005 Federal Register Notice (79 FR 21408). This amendment will allow OECA to collect information to assist in the evaluation of the State Review Framework implementation from FY 2005 to the end of FY 2007. This request will allow EPA to make inquiries to assess the State Review Framework process, including the consistency achieved among the EPA Regions and states, the resources required to conduct the reviews, and the overall effectiveness of the program.

An agency may not conduct or sponsor, and a person is not required to respond to, a collection of information unless it displays a currently valid OMB control number. The OMB control numbers for EPA's regulations in 40 CFR are listed in 40 CFR part 9.

The EPA would like to solicit comments to:

(i) Evaluate the accuracy of the Agency's estimate of the burden of the proposed collection of information, including the validity of the methodology and assumptions used;

(ii) Enhance the quality, utility, and clarity of the information to be collected; and

(iii) Minimize the burden of the collection of information on those who are to respond, including through the use of appropriate automated electronic, mechanical, or other technological collection techniques or other forms of information technology, e.g., permitting electronic submission of responses.

Burden Statement: The estimated burden for this Framework is 6 hours per respondent. The total number of respondents is 236, producing an approximate total burden of 1375 hours. For each respondent, the proposed frequency of response is one-time in a three-year cycle. The projected cost burden to respondents is $47,213, which includes a total capital and start-up component of $0.0, annualized over its expected useful life, and a total operation and maintenance component of $0.0. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 6, 2007.
Lisa Lund,
Acting Office Director, Office of Compliance, Office of Enforcement and Compliance Assurance.

[FR Doc. E7-11514 Filed 6-13-07; 8:45 am]

BILLING CODE 6560-50-P